ENVIRONMENTAL PROTECTION AGENCY

40 CFR Part 52

[EPA-R03-OAR-2016-0002; FRL-9945-46-Region 3]

Approval and Promulgation of Air Quality Implementation Plans; Pennsylvania; 2011 Base Year Inventories for the 2008 8-Hour Ozone National Ambient Air Quality Standard for the Allentown-Bethlehem-Easton, Lancaster, Pittsburgh-Beaver Valley, and Reading Areas, and the Pennsylvania Portion of the Philadelphia-Wilmington-Atlantic City Area

AGENCY: Environmental Protection Agency (EPA).

ACTION: Proposed rule.

SUMMARY: The Environmental Protection Agency (EPA) proposes to approve the 2011 base year inventories for the 2008 8-hour ozone national ambient air quality standard (NAAQS) for the Allentown-Bethlehem-Easton, Lancaster, Pittsburgh-Beaver Valley, and Reading nonattainment areas, and the Pennsylvania portion of the Philadelphia-Wilmington-Atlantic City nonattainment area, submitted by the Commonwealth of Pennsylvania as a revision to the Pennsylvania State Implementation Plan (SIP). In the Rules and Regulations section of this issue of the Federal Register, EPA is approving Pennsylvania's SIP submittal as a direct final rule without prior proposal because the Agency views this as a noncontroversial submittal and anticipates no adverse comments. The rationale for the approval is set forth in the direct final rule. More detailed descriptions of the state submittal and EPA's evaluation are included in Technical Support Documents (TSD) prepared in support of this rulemaking action. Copies of the TSDs are available, upon request, from the EPA Regional Office listed in the ADDRESSES section of this document or are also available electronically within the Docket for this rulemaking action. If no adverse comments are received in response to this action, no further activity is contemplated. If EPA receives adverse comments, the direct final rule will be withdrawn and all public comments received will be addressed in a subsequent final rule based on this proposed rule. EPA will not institute a second comment period. Any parties interested in commenting on this action should do so at this time.

DATES: Comments must be received in writing by May 26, 2016.

ADDRESSES: Submit your comments, identified by Docket ID No. EPA-R03-OAR-2016-0002 at http://www.regulations.gov, or via email to fernandez.cristina@epa.gov. For comments submitted at Regulations.gov, follow the online instructions for submitting comments. Once submitted, comments cannot be edited or removed from Regulations.gov. For either manner of submission, EPA may publish any comment received to its public docket. Do not submit electronically any information you consider to be confidential business information (CBI) or other information whose disclosure is restricted by statute. Multimedia submissions (audio, video, etc.) must be accompanied by a written comment. The written comment is considered the official comment and should include discussion of all points you wish to make. EPA will generally not consider comments or comment contents located outside of the primary submission (i.e. on the web, cloud, or other file sharing system). For additional submission methods, please contact the person identified in the FOR FURTHER INFORMATION CONTACT section. For the full EPA public comment policy, information about CBI or multimedia submissions, and general guidance on making effective comments, please visit http://www2.epa.gov/dockets/commenting-epa-dockets.

FOR FURTHER INFORMATION CONTACT: Maria A. Pino, (215) 814-2181, or by email at pino.maria@epa.gov.

SUPPLEMENTARY INFORMATION: For further information regarding Pennsylvania's 2011 base year inventories for the 2008 8-hour ozone NAAQS for the Allentown-Bethlehem-Easton, Lancaster, Pittsburgh-Beaver Valley, and Reading areas, and the Pennsylvania portion of the Philadelphia-Wilmington-Atlantic City area, please see the information provided in the direct final action, with the same title, that is located in the Rules and Regulations section of this issue of the Federal Register.

Dated: April 8, 2016.
Shawn M. Garvin,
Regional Administrator, Region III.

[FR Doc. 2016-09590 Filed 4-25-16; 8:45 am]

BILLING CODE 6560-50-P